DEPARTMENT OF COMMERCE

National Oceanic and Atmospheric Administration

50 CFR Part 635

RIN 0648-BC09

Atlantic Highly Migratory Species; 2006 Consolidated Highly Migratory Species Fishery Management Plan; Amendment 7

AGENCY: National Marine Fisheries Service (NMFS), National Oceanic and Atmospheric Administration (NOAA), Commerce.

ACTION: Notice of public webinars.

SUMMARY: NMFS will host two public webinars to provide the opportunity to explain management measures and effective dates in the final rule for Amendment 7 to the 2006 Consolidated Highly Migratory Species (HMS) Fishery Management Plan (FMP) (Amendment 7), which published December 2, 2014. The measures in the final rule took action to reduce and account for bluefin dead discards in all categories; optimize fishing opportunities in all categories within the U.S. quota; enhance reporting and monitoring; and adjust other management measures as necessary

DATES: The public webinars will be held on December 18, 2014, and December 22, 2014. See SUPPLEMENTARY INFORMATION for dates, times, and locations.

ADDRESSES: See SUPPLEMENTARY INFORMATION for dates, times, and log-in information for the two public webinars

FOR FURTHER INFORMATION CONTACT: Thomas Warren or Brad McHale at 978-281-9260.

SUPPLEMENTARY INFORMATION: The U.S. Atlantic tuna fisheries are managed under the authority of the Magnuson-Stevens Act and the Atlantic Tunas Convention Act (ATCA), and the authority to issue regulations has been delegated from the Secretary to the Assistant Administrator (AA) for Fisheries, NOAA. Management of these species is described in the 2006 Consolidated HMS FMP and its amendments, which are implemented by regulations at 50 CFR part 635. Copies of the 2006 Consolidated HMS FMP and previous amendments are available from the HMS Management Division Web page at http://www.nmfs.noaa.gov/sfa/hms/documents/fmp/index.html or from NMFS on request (see FOR FURTHER INFORMATION CONTACT).

On December 2, 2014, NMFS published a final rule on Amendment 7 to the 2006 Consolidated HMS FMP (79 FR 71509) to meet domestic management objectives of the Magnuson-Stevens Act, including preventing overfishing, achieving optimum yield, and minimizing bycatch to the extent practicable, as well as the objectives of ATCA and obligations pursuant to binding recommendations of ICCAT. NMFS is taking the management actions in Amendment 7 primarily to reduce and account for bluefin dead discards in all categories; optimize fishing opportunities in all categories within the U.S. quota; enhance reporting and monitoring; and adjust other management measures as necessary.

Public Webinar Date, Times and Locations

Public webinars will be held to provide the opportunity to explain management measures and effective dates in Amendment 7. Participants may join by phone or online.

The first webinar is on December 18, 2014, from 1:00 to 3:00 p.m. EST. To participate by phone, call number 1-800-779-8718; participant pass code 9570597. Participants can join the webinar online at https://noaaevents2.webex.com/noaaevents2/onstage/g.php?d=997375416&t=a; password NOAA. The second webinar is on December 22, 2014, from 1:00 to 3:00pm EST. To participate by phone, call 1-800-779-8718; participant pass code 9570597. Participants can join the webinar online at https://noaaevents2.webex.com/noaaevents2/onstage/g.php?d=993403589&t=a; password NOAA. To participate in either webinar online, enter your name and email address, and click the “JOIN” button. Participants that have not used WebEx before will be prompted to download and run a plug-in program that will enable them to view the webinar. Presentation materials and other supporting information will be posted on the HMS Web site at: http://www.nmfs.noaa.gov/sfa/hms.

Public Hearing Code of Conduct

The public is reminded that NMFS expects participants at public webinars to conduct themselves appropriately. At the beginning of each webinar, a representative of NMFS will explain the ground rules (e.g., attendees will be called to ask questions in the order in which they registered to speak; each attendee will have an equal opportunity to speak; attendees may not interrupt one another; etc.). NMFS representative(s) will structure the webinar so that all participating members of the public will be able to speak, if they so choose, regardless of the controversial nature of the subject(s). Participants are expected to respect the ground rules, and those that do not will be asked to leave the webinar.

Authority: 16 U.S.C. 1801 et seq.

Dated: December 11, 2014.
Emily H. Menashes,
Acting Director, Office of Sustainable Fisheries, National Marine Fisheries Service.

[FR Doc. 2014-29438 Filed 12-11-14; 4:15 pm]

BILLING CODE 3510-22-P